DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy.

U.S. Patent No. 6,105,382 entitled “Chest Mounted Armored Microclimate Conditioned Air Device”, Navy Case No. 79727, Inventor Reason, Issue Date 22 August, 2000.//U.S. Patent No. 6,240,742 entitled “Modular Portable Air-Conditioning System”, Navy Case No. 79780, Inventors Kaufman et al., Issue Date 5 June, 2001.//U.S. Patent No. 6,249,241 entitled “Marine Vessel Traffic System”, Navy Case No. 76518, Inventors Jordan et al., Issue Date 19 June, 2001.//U.S. Patent No. 5,982,420 entitled “Autotracking Device Designating a Target”, Navy Case No. 77657, Inventor Ratz, Issue Date 9 November, 1999.//U.S. Patent No. 6,005,399 entitled “Solder Paste and Residue Measurement System”, Navy Case No. 78137, Inventors Frederickson et al., Issue Date 21 December, 1999.

ADDRESSES: Request for data and inventor interviews should be directed to Mr. Paul Fritz, Naval Air Warfare Center Aircraft Division, Business Development Office, Office of Research and Technology Applications, Bldg 304, Rm 107, 22541 Millstone Rd, Patuxent River, MD 20670, (301) 342-5586 or E-Mail: Fritzpm@navair.navy.mil.

FOR FURTHER INFORMATION CONTACT: Mr. Paul Fritz, Naval Air Warfare Center Aircraft Division, Business Development Office, Office of Research and Technology Applications, Bldg 304, Rm 107, 22541 Millstone Rd, Patuxent River, MD 20670, (301) 342-5586 or E-Mail: Fritzpm@navair.navy.mil.

SUPPLEMENTARY INFORMATION: The U.S. Navy intends to move expeditiously to license these patents. All licensing application packages and commercialization plans must be returned to Naval Air Warfare Center Aircraft Division, Business Development Office, Office of Research and Technology Applications, Bldg 304, Rm 107, 22541 Millstone Rd, Patuxent River, MD 20670.

The Navy, in its decision concerning the granting of licenses, will give special consideration to small business firms, and consortia involving small business firms.

The Navy intends to insure that its licensed inventions are broadly commercialized throughout the United States.

Any license of Navy technology will require that materials which embody the inventions licensed that are to be sold in the United States of America, will be manufactured substantially in the United States.

(Authority: 35 U.S.C. 207, 37 CFR part 404).
Dated: August 26, 2003.
S.K. Melancon,
Paralegal Specialist, Office of the Judge Advocate General, Alternate Federal Register Liaison Officer.

[FR Doc. 03-22596 Filed 9-4-03; 8:45 am]

BILLING CODE 3810-FF-P